DEPARTMENT OF ENERGY

Federal Energy Regulatory Commission

[Docket No. RP03-42-000]

Distrigas of Massachusetts LLC; Notice of Tariff Filing

October 30, 2002.

Take notice that on October 24, 2002, Distrigas of Massachusetts LLC (DOMAC), tendered for filing as part of its FERC Gas Tariff, First Revised Volume No. 1, the following tariff sheets, with an effective date of November 1, 2002:

Third Revised Sheet No. 85 Third Revised Sheet No. 86

Third Revised Sheet No. 87 Third Revised Sheet No. 88

Third Revised Sheet No. 89 Third Revised Sheet No. 90

Third Revised Sheet No. 91 Fourth Revised Sheet No. 92

Third Revised Sheet No. 93

DOMAC states that the tariff sheets modify and extend DOMAC's SS-1 Storage Service Agreement with Boston Gas. The replacement agreement will be effective on November 1, 2002 and extend for a term of two years.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport @ferc.gov or toll-free at (866)208-3676, or for TTY, contact (202)502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-28179 Filed 11-4-02; 8:45 am]

BILLING CODE 6717-01-P